ENVIRONMENTAL PROTECTION AGENCY

[FRL-9915-01-Region-4; CERCLA-04-2014-3764]

J.J. Seifert Machine Shop Superfund Site; Sun City, Hillsborough County, Florida; Notice of Settlement

AGENCY: Environmental Protection Agency.

ACTION: Notice of settlement.

SUMMARY: Under 122(h) of the Comprehensive Environmental Response, Compensation and Liability Act (CERCLA), the United States Environmental Protection Agency has entered into a settlement with Pamela S. Ahlen, J.J. Seifert Land Company and J.J. Seifert Machine Co., Inc. concerning the J.J. Seifert Machine Shop Superfund Site located in Sun City, Hillsborough County, Florida. The settlement is based on a financial analysis and addresses liability for past and future costs concerning work being performed at the Site and allows for the sale of the property.

DATES: The Agency will consider public comments on the settlement until September 8, 2014. The Agency will consider all comments received and may modify or withdraw its consent to the settlement if comments received disclose facts or considerations which indicate that the amended settlement is inappropriate, improper, or inadequate.

ADDRESSES: Copies of the settlement are available from the Agency by contacting Ms. Paula V. Painter, Environmental Protection Specialist using the contact information provided in this notice. Comments may also be submitted by referencing the Site's name through one of the following methods:

• Internet: www.epa.gov/region4/superfund/programs/enforcement/enforcement.html

• U.S. Mail: U.S. Environmental Protection Agency, Superfund Division, Attn: Paula V. Painter, 61 Forsyth Street SW., Atlanta, Georgia 30303.

• Email: Painter.Paula@epa.gov.

FOR FURTHER INFORMATION CONTACT: Paula V. Painter at 404/562-8887

Dated: July 29, 2014.
Anita L. Davis,
Chief, Superfund Enforcement & Information Management Branch, Superfund Division.

[FR Doc. 2014-18825 Filed 8-7-14; 8:45 am]

BILLING CODE 6560-50-P